DEPARTMENT OF STATE

22 CFR Part 96

[Public Notice: 9940]

RIN 1400-AD91

Intercountry Adoptions

AGENCY: Department of State.

ACTION: Proposed rule; notice of withdrawal.

SUMMARY: The Department of State (Department) published a notice of proposed rulemaking (NPRM) on September 8, 2016, proposing to amend its regulations implementing the 1993 Hague Convention on Protection of Children and Co-operation in Respect of Intercountry Adoption and the Intercountry Adoption Act of 2000. 81 FR 62322. The Department hereby withdraws that action. The comments provided in response to the NPRM will be considered in drafting a new rule, which is expected to be published later this year.

DATES: September 8, 2016.

FOR FURTHER INFORMATION CONTACT: Trish Maskew, (202) 485-6024.

Theodore “Ted” R. Coley
Acting Deputy Assistant Secretary, Overseas Citizen Services, Bureau of Consular Affairs, U.S. Department of State.

[FR Doc. 2017-06558 Filed 4-3-17; 8:45 am]

BILLING CODE P